DEPARTMENT OF DEFENSE

Department of the Air Force

[Docket ID USAF-2018-HQ-0003]

Proposed Collection; Comment Request

AGENCY: Department of the Air Force, DoD.

ACTION: Information collection notice.

SUMMARY: In compliance with the Paperwork Reduction Act of 1995, the Department of the Air Force Judge Advocate General announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 31, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to The Judge Advocate General, Headquarters, United States Air Force, 1420 Air Force Pentagon, Washington, DC 20330-1420 or call 1-800-524-8723.

SUPPLEMENTARY INFORMATION:

Title; Associated Form; and OMB Number: Web-based Legal Information Online System (WebLIONS); OMB Control Number 0701-XXXX.

Needs and Uses: Requesting authorization to collect information on individuals who seek assistance from the Air Force in resolving their personal legal issues. Air Force personnel use WebLIONS to create and maintain records on these individuals in order to perform their official duties and to manage the legal assistance program. The system allows personnel to review and track cases, as well as perform conflict checks. It is also consulted by attorneys and paralegals when they are generating legal documents for their clients.

Affected Public: Individuals or Households.

Annual Burden Hours: 9,550.

Number of Respondents: 191,000.

Responses per Respondent: 1.

Annual Responses: 191,000.

Average Burden per Response: 3 minutes.

Frequency: On Occasion.

Public respondents to WebLIONS include retired military personnel and dependents of active duty and retired military personnel. The completed online questionnaires are used during the intake process to determine an individual's eligibility for legal assistance, as well as assisting attorneys in performing their official duties while providing services to their clients. WebLIONS also acts as a database to review and track cases as well as assist in conflicts checks. This information is vital to the sustainability and viability of continued Air Force support to legal assistance activities.

Dated: May 25, 2018.
Shelly E. Finke,
Alternate OSD Federal Register Liaison Officer, Department of Defense.

[FR Doc. 2018-11763 Filed 5-31-18; 8:45 am]

BILLING CODE 5001-06-P